DEPARTMENT OF TRANSPORTATION

Federal Aviation Administration

14 CFR Part 97

[Docket No. 30788; Amdt. No. 3430 ]

Standard Instrument Approach Procedures, and Takeoff Minimums and Obstacle Departure Procedures; Miscellaneous Amendments

AGENCY: Federal Aviation Administration (FAA), DOT.

ACTION: Final rule.

SUMMARY: This establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective June 27, 2011. The compliance date for each SIAP, associated Takeoff Minimums, and ODP is specified in the amendatory provisions.

The incorporation by reference of certain publications listed in the regulations is approved by the Director of the Federal Register as of June 27, 2011.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420), Flight Technologies and Programs Divisions, Flight Standards Service, Federal Aviation Administration, Mike Monroney Aeronautical Center, 6500 South MacArthur Blvd. Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the, associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule ” under DOT Regulatory Policies and Procedures (44 FR 11034; February 26,1979) ; and (3)does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC on June 10, 2011.
Ray Towles,
Deputy Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 30 JUN 2011

Napa, CA, Napa County, RNAV (GPS) Y RWY 36L, Amdt 2

Napa, CA, Napa County, RNAV (GPS) Z RWY 36L, Amdt 1

Effective 28 JUL 2011

Andalusia/Opp, AL, South Alabama Rgnl at Bill Benton Field, COPTER NDB RWY 29, Orig

Andalusia/Opp, AL, South Alabama Rgnl at Bill Benton Field, RNAV (GPS) RWY 11, Amdt 2

Andalusia/Opp, AL, South Alabama Rgnl at Bill Benton Field, RNAV (GPS) RWY 29, Amdt 2

Fayette, AL, Richard Arthur Field, RNAV (GPS) RWY 18, Amdt 1

Fayette, AL, Richard Arthur Field, RNAV (GPS) RWY 36, Amdt 1

Gulf Shores, AL, Jack Edwards, VOR-A, Amdt 3, CANCELLED

Crossett, AR, Z M Jack Stell Field, Takeoff Minimums and Obstacle DP, Orig

Springerville, AZ, Springerville Muni, RNAV (GPS) RWY 21, Amdt 1

Big Bear City, CA, Big Bear City, RNAV (GPS) RWY 26, Orig-A

Marina, CA, Marina Muni, VOR/DME RWY 29, Amdt 2

Oxnard, CA, Oxnard, RNAV (GPS) RWY 7, Amdt 1

Jacksonville, FL, Cecil Airport, ILS OR LOC RWY 36R, Amdt 2

Plant City, FL, Plant City, RNAV (GPS) RWY 10, Amdt 1

Madison, GA, Madison Muni, GPS RWY 14, Amdt 1B, CANCELLED

Madison, GA, Madison Muni, RNAV (GPS) RWY 14, Orig

Monroe, GA, Monroe-Walton County, RNAV (GPS) RWY 3, Amdt 2

Bloomington, IN, Monroe County, VOR/DME RWY 6, Amdt 19

Indianapolis, IN, Indianapolis Executive, RNAV (GPS) RWY 36, Orig-A

Ashland, KY, Ashland Rgnl, RNAV (GPS) RWY 10, Amdt 1

Ashland, KY, Ashland Rgnl, RNAV (GPS) RWY 28, Amdt 1

Nantucket, MA, Nantucket Memorial, RNAV (GPS) RWY 15, Orig

Traverse City, MI, Cherry Capital, Takeoff Minimums and Obstacle DP, Amdt 10

Cleveland, MS, Cleveland Muni, GPS RWY 35, Orig-A, CANCELLED

Cleveland, MS, Cleveland Muni, RNAV (GPS) RWY 17, Orig

Cleveland, MS, Cleveland Muni, RNAV (GPS) RWY 35, Orig

Cleveland, MS, Cleveland Muni, VOR-A, Amdt 8

West Yellowstone, MT, Yellowstone, ILS OR LOC RWY 1, Amdt 4

West Yellowstone, MT, Yellowstone, NDB RWY 1, Amdt 4

Oak Island, NC, Cape Fear Rgnl Jetport/Howie Franklin Fld, RNAV (GPS) RWY 5, Amdt 1B

Millville, NJ, Millville Muni, RNAV (GPS) RWY 10, Orig

Monongahela, PA, Rostraver, Takeoff Minimums and Obstacle DP, Amdt 1A

Effective 25 AUG 2011

Unalakleet, AK, Unalakleet, RNAV (GPS) Y RWY 33, Orig-A

Unalakleet, AK, Unalakleet, RNAV (GPS) Z RWY 33, Orig

Riverside/Rubidoux, CA, Flabob, RNAV (GPS)-A, Orig

Colorado Springs, CO, City of Colorado Springs Muni, RNAV (RNP) Z RWY 35L, Orig-A

Destin, FL, Destin-Fort Walton Beach, RNAV (GPS) RWY 14, Amdt 1

Destin, FL, Destin-Fort Walton Beach, RNAV (GPS) RWY 32, Amdt 1

Homestead, FL, Homestead General Aviation, RNAV (GPS) RWY 10, Orig

Homestead, FL, Homestead General Aviation, Takeoff Minimums and Obstacle DP, Orig

Cedartown, GA, Polk County Arpt-Cornelius Moore Field, RNAV (GPS) RWY 10, Orig

Cedartown, GA, Polk County Arpt-Cornelius Moore Field, RNAV (GPS) RWY 28, Orig

Cedartown, GA, Polk County Arpt-Cornelius Moore Field, Takeoff Minimums and Obstacle DP, Amdt 1

Cedartown, GA, Polk County Arpt-Cornelius Moore Field, VOR-A, Amdt 13

Cedartown, GA, Polk County Arpt-Cornelius Moore Field, VOR/DME RNAV OR GPS RWY 9, Amdt 2B, CANCELLED

Cedartown, GA, Polk County Arpt-Cornelius Moore Field, VOR/DME RNAV OR GPS RWY 27, Amdt 2A, CANCELLED

Macon, GA, Middle Georgia Rgnl, RNAV (GPS) RWY 13, Amdt 1

Baltimore, MD, Martin State, LOC RWY 15, Amdt 3

Baltimore, MD, Martin State, RNAV (GPS) RWY 15, Amdt 1

Great Falls, MT, Great Falls Intl, GPS RWY 21, Orig-A, CANCELLED

Great Falls, MT, Great Falls Intl, ILS OR LOC/DME RWY 3, ILS RWY 3 (SA CAT I), ILS RWY 3 (CAT II), ILS RWY 3 (CAT III), Amdt 5

Great Falls, MT, Great Falls Intl, RNAV (GPS) Y RWY 3, Amdt 3

Great Falls, MT, Great Falls Intl, RNAV (GPS) Y RWY 21, Orig

Great Falls, MT, Great Falls Intl, RNAV (RNP) Z RWY 3, Orig

Great Falls, MT, Great Falls Intl, RNAV (RNP) Z RWY 21, Orig

Maxton, NC, Laurinburg-Maxton, ILS OR LOC RWY 5, Amdt 2

Maxton, NC, Laurinburg-Maxton, RNAV (GPS) RWY 5, Amdt 1

Maxton, NC, Laurinburg-Maxton, RNAV (GPS) RWY 23, Amdt 1

Somerville, NJ, Somerset, RNAV (GPS) RWY 12, Orig-A

Fremont, OH, Sandusky County Rgnl, GPS RWY 6, Orig-B, CANCELLED

Fremont, OH, Sandusky County Rgnl, GPS RWY 24, Orig-B, CANCELLED

Fremont, OH, Sandusky County Rgnl, RNAV (GPS) RWY 6, Orig

Fremont, OH, Sandusky County Rgnl, RNAV (GPS) RWY 24, Orig

Fremont, OH, Sandusky County Rgnl, Takeoff Minimums and Obstacle DP, Orig

Fremont, OH, Sandusky County Rgnl, VOR/DME RWY 24, Amdt 1

Galion, OH, Galion Muni, Takeoff Minimums and Obstacle DP, Orig

Charleston, SC, Charleston AFB/Intl, ILS OR LOC RWY 15, ILS RWY 15 (CAT II), Amdt 23

Charleston, SC, Charleston AFB/Intl, ILS OR LOC/DME RWY 33, Amdt 8

Charleston, SC, Charleston AFB/Intl, RNAV (GPS) Y RWY 3, Amdt 2

Charleston, SC, Charleston AFB/Intl, RNAV (GPS) Y RWY 15, Amdt 3

Charleston, SC, Charleston AFB/Intl, RNAV (GPS) Y RWY 21, Amdt 2

Charleston, SC, Charleston AFB/Intl, RNAV (GPS) Y RWY 33, Amdt 3

Charleston, SC, Charleston Executive, RNAV (GPS) RWY 9, Amdt 3

Charleston, SC, Charleston Executive, RNAV (GPS) RWY 27, Amdt 2

Crosbyton, TX, Crosbyton Muni, Takeoff Minimums and Obstacle DP, Orig

Houston, TX, Lone Star Executive, ILS OR LOC RWY 14, Amdt 2C

Sulphur Springs, TX, Sulphur Springs Muni, Takeoff Minumims and Obstabcle DP, Amdt 1

West Point, VA, Middle Peninsula Rgnl, RNAV (GPS) RWY 28, Orig

Snohomish, WA, Harvey Field, Takeoff Minimums and Obstacle DP, Amdt 1

La Crosse, WI, La Crosse Muni, Takeoff Minimums and Obstacle DP, Amdt 6

[FR Doc. 2011-15398 Filed 6-24-11; 8:45 am]

BILLING CODE 4910-13-P